DEPARTMENT OF LABOR

Employment and Training Administration

[TA-W-65,339]

Pentagon Technologies Group, Inc., Portland, OR; Notice of Termination of Investigation

Pursuant to Section 221 of the Trade Act of 1974, as amended, an investigation was initiated on February 23, 2009 in response to a worker petition filed by a company official on behalf of workers of Pentagon Technologies Group, Inc., Portland, Oregon.

The petitioner has requested that the petition be withdrawn. Consequently, the investigation has been terminated.

Signed at Washington, DC, this 24th day of February 2009.
Richard Church,
Certifying Officer, Division of Trade Adjustment Assistance.

[FR Doc. E9-4553 Filed 3-3-09; 8:45 am]

BILLING CODE 4510-FN-P